DEPARTMENT OF THE INTERIOR

Fish and Wildlife Service

[FWS-R9-MB-2010-N165; 91100-3782-GRNT 7C]

Meeting Announcement: Neotropical Migratory Bird Conservation Advisory Group

AGENCY: Fish and Wildlife Service, Interior.

ACTION: Notice of meeting.

SUMMARY: The Advisory Group for the Neotropical Migratory Bird Conservation Act (NMBCA) grants program (Advisory Group) will meet in person and via conference call to discuss strategic planning and communication, budget and legislation updates, and other topics. This meeting is open to the public, and interested persons may present oral or written statements.

DATES: Advisory Group Meeting: September 9, 2010, 12 p.m. to 4 p.m. ET. Presenters: If you are interested in presenting oral or written information at the public meeting, provide a written copy of all comments to the Council Coordinator no later than August 27, 2010 (see FOR FURTHER INFORMATION CONTACT).

ADDRESSES: The meeting will be held at U.S. Fish and Wildlife Service, Room 2073—2nd Floor, 4501 N. Fairfax Drive, Arlington, VA 22203.

FOR FURTHER INFORMATION CONTACT: Michael J. Johnson, Advisory Group Council Coordinator, by phone at (703) 358-1784; by e-mail at dbhc@fws.gov; or by U.S. mail at U.S. Fish and Wildlife Service, 4401 N. Fairfax Drive, Mail Stop MBSP 4075, Arlington, VA 22203.

SUPPLEMENTARY INFORMATION: Recognizing the importance of conserving migratory birds, the U.S. Congress passed the NMBCA (Pub. L. 106-247, 114 Stat. 593, July 20, 2000) in 2000. The U.S. Fish and Wildlife Service, with assistance from an international Advisory Group, manages a grants program to implement the terms of the NMBCA.

This competitive, matching grants program supports public-private partnerships carrying out projects in the United States, Canada, Latin America, and the Caribbean that promote the long-term conservation of neotropical migratory birds and their habitats. The goals of the NMBCA include perpetuating healthy populations of these birds, providing financial resources for bird conservation initiatives, and fostering international cooperation for such initiatives.

The NMBCA Advisory Group, named by the Secretary of the Interior under the NMBCA, will hold its meeting to advise the Director, Fish and Wildlife Service, on the strategic direction and management of the NMBCA grants program. Grant proposal due dates, application instructions, and eligibility requirements are available on the NMBCA Web site at http://www.fws.gov/birdhabitat/Grants/NMBCA/index.shtm.

The agenda of this meeting will include strategic planning, strategic communication, and budget and legislation updates.

If you are interested in presenting information at this public meeting, contact the Council Coordinator, and provide a written copy of all comments to the Council Coordinator, no later than the date under DATES.

Dated: August 5, 2010.
Robert J. Blohm,
Acting Assistant Director, Migratory Birds.

[FR Doc. 2010-19807 Filed 8-10-10; 8:45 am]

BILLING CODE 4310-55-P